GOVERNMENT ACCOUNTABILITY OFFICE

Exposure Draft—Standards for Internal Control in the Federal Government

AGENCY: U.S. Government Accountability Office.

ACTION: Notice of Comment Period Extension.

SUMMARY: The US Government Accountability Office (GAO) is extending the comment period for the proposed revisions to the Standards for Internal Control in the Federal Government, known as the “Green Book,” to January 15, 2014. We are requesting public comments on the proposed revisions in the exposure draft. The proposed changes contained in the 2013 Exposure Draft update to the Standards for Internal Control in the Federal Government reflect major developments in the accountability and financial management profession and emphasize specific considerations applicable to the government environment.

The draft of the proposed changes to Standards for Internal Control in the Federal Government, 2013 Exposure Draft, is available and can be downloaded from GAO's Web page at www.gao.gov. All comments will be considered a matter of public record and will ultimately be posted on the GAO Web page.

DATES: The exposure period will be from September 2, 2013 to January 15, 2014.

ADDRESSES: Comment letters should be emailed to GreenBook@gao.gov. Please include Comment Letter in the subject line of the email.

FOR FURTHER INFORMATION CONTACT: For information on the Standards for Internal Control in the Federal Government please contact Kristen Kociolek, Assistant Director, Financial Management and Assurance telephone 202-512-2989, 441 G Street NW., Washington, DC 20548-0001.

Authority: 31 U.S.C. 3512(c), (d).

James Dalkin,
Director, Financial Management and Assurance, U.S. Government Accountability Office.

[FR Doc. 2013-27183 Filed 11-13-13; 8:45 am]

BILLING CODE 1610-02-P